DEPARTMENT OF THE TREASURY

Departmental Offices; Proposed Collections; Comment Requests

ACTION: Notice and request for comments.

SUMMARY: The Department of the Treasury, as part of its continuing effort to reduce paperwork burdens, invites the general public and other Federal agencies to comment on an information collection that is due for renewed approval by the Office of Management and Budget. The Office of International Financial Analysis within the Department of the Treasury is soliciting comments concerning Treasury International Capital Forms CQ-1 and CQ-2, Financial and Commercial Liabilities to, and Claims on, Unaffiliated Foreigners.

DATES: Written comments should be received on or before May 13, 2002 to be assured of consideration.

ADDRESSES: Direct all written comments to Dwight Wolkow, International Portfolio Investment Data Systems, Department of the Treasury, Room 5457 MT, 1500 Pennsylvania Avenue, NW., Washington, DC 20220. Because of slower mail, please also e-mail or FAX or phone directly to Dwight Wolkow at the contact points listed in the next paragraph.

FOR FURTHER INFORMATION CONTACT: Requests for additional information or copies of the forms and instructions should be directed to Dwight Wolkow, International Portfolio Investment Data Systems, Department of the Treasury, Room 5457 MT, 1500 Pennsylvania Avenue, NW., Washington, DC 20220. Phone: (202) 622-1276. Fax: (202) 622-7448. E-mail: dwight.wolkow@do.treas.gov.

SUPPLEMENTARY INFORMATION: OMB Number: 1505-0024.

Abstract: Forms CQ-1 and CQ-2 are part of the Treasury International Capital (TIC) reporting system, which is required by law (22 USC 286f; 22 USC 3103; EO 10033; 31 CFR 128), and is designed to collect timely information on international portfolio capital movements: Forms CQ-1 and CQ-2 are quarterly reports filed by nonbanking enterprises in the U.S. to report their international portfolio transactions with unaffiliated foreigners. This information is necessary for compiling the U.S. balance of payments accounts, for calculating the U.S. international investment position, and for use in formulating U.S. international financial and monetary policies.

Current Actions: No changes to reporting requirements for the forms are proposed at this time.

Type of Review: Extension.

Affected Public: Business or other for-profit organizations.

Forms: CQ-1 and CQ-2 (1505-0024).

Estimated Number of Respondents: 500.

Estimated Average Time per Respondent: 4 hours per respondent per filing.

Estimated Total Annual Burden Hours: 8,000 hours, based on 4 reporting periods per year.

Request for Comments: Comments submitted in response to this notice will be summarized and/or included in the requests for OMB approval. All comments will become a matter of public record. The public is invited to submit written comments concerning: whether Forms CQ-1 and CQ-2 are necessary for the proper performance of the functions of the Office, including whether the information collected has practical uses; the accuracy of the above burden estimates; ways to enhance the quality, usefulness, and clarity of the information to be collected; ways to minimize the reporting and/or recordkeeping burdens on respondents, including the use of information technologies to automate the collection of the data; and estimates of capital or start-up costs of operation, maintenance, and purchases of services to provide information.

Dwight Wolkow,
Administrator, International Portfolio Investment Data Systems.

[FR Doc. 02-5818 Filed 3-11-02; 8:45 am]

BILLING CODE 4810-25-M